DEPARTMENT OF DEFENSE

Office of the Secretary

Defense Science Board; Notice of Federal Advisory Committee Meeting

AGENCY: Department of Defense.

ACTION: Notice of Federal Advisory Committee meeting.

SUMMARY: The Defense Science Board (DSB) 2017 Summer Study Task Force on Countering Anti-access Systems with Longer Range and Standoff Capabilities (“the Long Range Effects 2017 Summer Study Task Force”) will meet in closed session on Tuesday, February 14, 2017, from 7:50 a.m. to 5:00 p.m. at the Strategic Analysis Inc. Executive Conference Center, 4075 Wilson Blvd., Suite 350, Arlington, VA and Wednesday, February 15, 2017, from 8:00 a.m. to 5:00 p.m. at the Virginia Tech Advanced Research Center, 900 Glebe Road, 7th Floor, Arlington, VA.

DATES: Tuesday, February 14, 2017, from 7:50 a.m. to 5:00 p.m.; and Wednesday, February 15, 2017, from 8:00 a.m. to 5:00 p.m.

ADDRESSES: Strategic Analysis Inc. Executive Conference Center, 4075 Wilson Blvd., Suite 350, Arlington, VA and Virginia Tech Advanced Research Center, 900 Glebe Road, 7th Floor, Arlington, VA.

FOR FURTHER INFORMATION CONTACT: Ms. Debra Rose, Executive Officer, Defense Science Board, 3140 Defense Pentagon, Room 3B888A, Washington, DC 20301-3140, via email at debra.a.rose20.civ@mail.mil, or via phone at (703) 571-0084 or the Defense Science Board's Designated Federal Officer (DFO) Ms. Karen D.H. Saunders, Executive Director, Defense Science Board, 3140 Defense Pentagon, Room 3B888A, Washington, DC 20301, via email at karen.d.saunders.civ@mail.mil or via phone at (703) 571-0079.

SUPPLEMENTARY INFORMATION: Due to circumstances beyond the control of the Designated Federal Officer and the Department of Defense, the Defense Science Board was unable to provide public notification concerning is meeting on February 14 through 15, 2017, of the Defense Science Board 2017 Summer Study Task Force on Countering Anti-access Systems with Longer Range and Standoff Capabilities, as required by 41 CFR 102-3.150(a). Accordingly, the Advisory Committee Management Officer for the Department of Defense, pursuant to 41 CFR 102-3.150(b), waives the 15-calendar day notification requirement.

This meeting is being held under the provisions of the Federal Advisory Committee Act (FACA) of 1972 (5 U.S.C., Appendix, as amended), the Government in the Sunshine Act of 1976 (5 U.S.C. 552b, as amended), and 41 CFR 102-3.150.

The mission of the DSB is to provide independent advice and recommendations on matters relating to the Department of Defense's (DoD) scientific and technical enterprise. The objective of the Long Range Effects 2017 Summer Study Task Force is to explore new defense systems and technologies that will enable cost effective power projection that relies on the use of longer stand-off distances than current capabilities. System components may be deployed on manned or unmanned platforms with a range of potential autonomous capabilities. Use of cost reducing technology and advanced production practices from defense and commercial industry may be a major part of the strategy for deploying adequate numbers of weapons. The study should investigate and analyze all of these areas and recommend preferred system options. This two-day session will focus on providing general threat briefings, to include country briefings and respective threat system capabilities. United States capabilities will also be briefed by combatant commands, Office of Secretary of Defense and the military services. Day One briefings will include an overview of the study and expectations from Dr. David Whelan and Mr. Mark Russell, task force co-chairs; a briefing on the operations and threats to military satellite communications and tactical networking from Mr. Al Grasso, President of MITRE; an overview of the Missile Defense Agency's (MDA) efforts to address Anti-access/Area denial (A2/AD) by Mr. Michael Ramsdell, MDA; an overview of U.S. European Command's (EUCOM) operational plans from Col Kelly Houlgate, the EUCOM Liaison Officer; an assessment of the DoD's capabilities to counter A2/AD from Mr. Gregory Cox of the Institute for Defense Analyses; and an overview briefing on the National Reconnaissance Office's (NRO) architecture and approach to countering A2/AD. The remainder of this day will be the Long Range Effects 2017 Summer Study Task Force's four panel break-out sessions: Architecture; Intelligence, Surveillance, and Reconnaissance (ISR); Basing, Delivery, and Weapons; Command, Control, Communications, and Cyber. These panels will meet simultaneously to discuss topics to analyze in support of the study. Day Two briefings will include an overview briefing on maintaining and preserving defense technological superiority by Mr. Mike Olmstead from the Office of the Undersecretary of Defense (Acquisition, Technology, and Logistics) (OUSD (AT&L)); an analysis of conventional prompt global strike by Ms. Amy Woolf of Congressional Research Service (CRS); and an overview of U.S. Defense space policy from Mr. John Hill from the Office of the Secretary of Defense (Space). The day will conclude with the same four panel break-out sessions from the previous day: Architecture; Intelligence, Surveillance, and Reconnaissance (ISR); Basing, Delivery, and Weapons; Command, Control, Communications, and Cyber. These panels will meet simultaneously to discuss topics to analyze in support of the study.

In accordance with section 10(d) of the FACA and 41 CFR 102-2.155, the DoD has determined that the Long Range Effects 2017 Summer Study Task Force meeting will be closed to the public. Specifically, the Under Secretary of Defense (Acquisition, Technology, and Logistics), in consultation with the DoD Office of General Counsel, has determined in writing that the meeting will be closed to the public because matters covered by 5 U.S.C. 552b(c)(1) will be considered. The determination is based on the consideration that it is expected that discussions throughout will involve classified matters of national security concern. Such classified material is so intertwined with the unclassified material that it cannot reasonably be segregated into separate discussions without defeating the effectiveness and meaning of the overall meetings. To permit the meeting to be open to the public would preclude discussion of such matters and would greatly diminish the ultimate utility of the DSB's findings and recommendations to the Secretary of Defense and to the Under Secretary of Defense for Acquisition, Technology, and Logistics.

In accordance with section 10(a)(3) of the FACA and 41 CFR 102-3.l05(j) and 102-3.140, interested persons may submit a written statement for consideration by the Long Range Effects 2017 Summer Study Task Force members at any time regarding its mission or in response to the stated agenda of a planned meeting. Individuals submitting a written statement must submit their statement to the DSB's DFO—Ms. Karen D.H. Saunders, Executive Director, Defense Science Board, 3140 Defense Pentagon, Room 3B888A, Washington, DC 20301, via email at karen.d.saunders.civ@mail.mil or via phone at (703) 571-0079 at any point; however, if a written statement is not received at least 3 calendar days prior to the meeting, which is the subject of this notice, then it may not be provided to or considered by the Long Range Effects 2017 Summer Study Task Force until the next meeting of this task force. The DFO will review all submissions with the Long Range Effects 2017 Summer Study Task Force Co-Chairs and ensure they are provided to Long Range Effects 2017 Summer Study Task Force members prior to the end of the two day meeting on February 15, 2017.

Dated: February 14, 2017.
Aaron Siegel,
Alternate OSD Federal Register Liaison Officer, Department of Defense.

[FR Doc. 2017-03194 Filed 2-16-17; 8:45 am]

BILLING CODE 5001-06-P